DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Survey of Public Employee Retirement Systems.

OMB Control Number: 0607-0143.

Form Number(s): F-10.

Type of Request: Revision of a currently approved collection.

Burden Hours: 300.

Number of Respondents: 100.

Average Hours per Response: 45 minutes.

Needs and Uses: Over 2.9 trillion dollars in public-employee retirement system assets in the financial markets are controlled by a small number of large systems. The 2002 Census of Governments identified 2,670 state and local government administered public-employee retirement systems. The 100 largest systems, as measured by the system assets, account for about 90 percent of the total assets of all systems. This form is used to collect financial data from these 100 systems for policy makers and economists to follow the changing characteristics of these funds.

This survey was initiated by the Census Bureau at the request of both the Council of Economic Advisors and the Federal Reserve Board. The most important information this survey provides is the quarterly change in composition of the securities holdings of the public employee retirement systems component of the economy. The Federal Reserve Board uses these data to track the public sector portion of the flow of funds accounts. The Bureau of Economic Analysis uses the quarterly retirement information on corporate stock holdings to estimate dividends received by state and local government retirement systems that, in turn, are used in preparing the national income and product accounts. Additionally, these data are a significant part of the information base needed to analyze investment trends and help in the formulation of governmental economic policies and investment decisions.

A minor revision is being made to clarify part A.4. Earnings on investments. The statement, ‘The net of gains and losses on the sale of investments is reported at 4c’ was removed; and the statement ‘Include both realized + unrealized gains (losses)' was added to part A.4.c. Net gain or loss on investments.

Affected Public: State, local or Tribal government.

Frequency: Quarterly.

Respondent's Obligation: Voluntary.

Legal Authority: Title 13 U.S.C., Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: October 7, 2008.
Gwellnar Banks,
Management Analyst, Office of the Chief Information Officer.

[FR Doc. E8-24225 Filed 10-10-08; 8:45 am]

BILLING CODE 3510-07-P